DEPARTMENT OF COMMERCE

International Trade Administration

[A-570-095]

Aluminum Wire and Cable From the People's Republic of China: Preliminary Results of Antidumping Duty Administrative Review; 2019-2020

AGENCY: Enforcement and Compliance, International Trade Administration, Department of Commerce.

SUMMARY: The Department of Commerce (Commerce) is conducting an administrative review of the antidumping duty (AD) order on aluminum wire and cable from the People's Republic of China (China) covering the period June 5, 2019, through November 30, 2020. We preliminarily determine that ICF Cable and Jin Tiong Electrical Materials Manufacturer PTE, Limited (Jin Tiong) are not eligible for a separate rate, and, therefore, are part of the China-wide entity. Interested parties are invited to comment on these preliminary results.

DATES: Applicable September 2, 2021.

FOR FURTHER INFORMATION CONTACT: Sean Carey, AD/CVD Operations, Office VII, Enforcement and Compliance, International Trade Administration, U.S. Department of Commerce, 1401 Constitution Avenue NW, Washington, DC 20230; telephone: (202) 482-3964.

SUPPLEMENTARY INFORMATION:

Background

On December 23, 2019, Commerce published the AD order on aluminum wire and cable from China.¹ On February 4, 2021, Commerce initiated the administrative review of the AD order on aluminum wire and cable from China covering the period June 5, 2019, through November 30, 2020.² The petitioners in this proceeding are Encore Wire Corporation (Encore) and Southwire Company, LLC (Southwire).³ This review covers two producers or exporters of subject merchandise: ICF Cable and Jin Tiong.

¹ See Aluminum Wire and Cable from the People's Republic of China: Antidumping Duty and Countervailing Duty Orders, 84 FR 70496 (December 23, 2019) (Order).

² See Initiation of Antidumping and Countervailing Duty Administrative Reviews, 86 FR 8166 (February 4, 2021) (Initiation Notice).

³ See Aluminum Wire and Cable from the People's Republic of China: Initiation of Less-Than-Fair-Value Investigation, 83 FR 52811 (October 18, 2018).

On February 10, 2021, Commerce released U.S. Customs and Border Protection (CBP) entry data for U.S. imports of aluminum wire and cable from China during the POR that were subject to the Order during the POR.⁴ Encore, one of the petitioners, submitted comments on the CBP entry data and respondent selection on February 17, 2021.⁵

⁴ See Memorandum, “Release of U.S. Customs and Border Protection Data,” dated February 10, 2021.

⁵ See Encore's Letter, “Aluminum Wire and Cable from the People's Republic of China: Comments on Customs Data and Respondent Selection,” dated February 17, 2021.

On July 28, 2021, Commerce determined that it had erroneously issued its questionnaire to Jin Tiong ⁶ (see “Preliminary Results of Administrative Review” section, below), and, accordingly, withdrew the questionnaire and removed it from the record.⁷ Jin Tiong objected to Commerce's decision to withdraw the questionnaire on July 30, 2021.⁸ On August 5, 2021, Jin Tiong submitted a section A questionnaire response. Southwire, one of the petitioners, submitted comments on August 9, 2021, requesting Commerce to remove Jin Tiong's section A questionnaire response from the record.⁹ On August 16, 2021, Commerce rejected Jin Tiong's Section A questionnaire and removed it from the record.¹⁰

⁶ See Memorandum, “Administrative Review of the Antidumping Duty Order of Aluminum Wire and Cable from the People's Republic of China; 2019-2020—Rescission of Questionnaire Issued to Jin Tiong Electrical Materials Manufacturer PTE, Limited,” dated July 28, 2020.

⁷ See Memorandum, “Administrative Review of the Antidumping Duty Order of Aluminum Wire and Cable from the People's Republic of China; Removal of Questionnaire Issued to Jin Tiong Electrical Materials Manufacturer PTE, Limited,” dated July 29, 2021.

⁸ See Jin Tiong's letter, “Aluminum Wire and Cable from the People's Republic of China, A-570-095; Objection to Withdrawal of Questionnaire,” dated July 30, 2021.

⁹ See Southwire's Letter, “Aluminum Wire and Cable from the People's Republic of China: Response to Jin Tiong's Objection to Withdrawal of Questionnaire; Request that the Department Reject Jin Tiong's Section A Questionnaire Response,” dated August 9, 2021.

¹⁰ See Memorandum, “Administrative Review of the Antidumping Duty Order of Aluminum Wire and Cable from the People's Republic of China; Rejection and Removal of Jin Tiong Electrical Materials Manufacturer PTE, Limited's Unsolicited Section A Questionnaire Response,” dated August 16, 2021.

Scope of the Order

The products covered by this Order are aluminum wire and cable from China. For a full description of the scope of this Order, see “Scope of the Order,” in the attached appendix.

Methodology

Commerce is conducting this administrative review in accordance with section 751(a)(1)(B) of the Tariff Act of 1930, as amended (the Act), and 19 CFR 351.213.

Preliminary Results of Administrative Review

Commerce considers China to be a non-market economy (NME) country.¹¹ In accordance with section 771(18)(C)(i) of the Act, any determination that a foreign country is an NME country shall remain in effect until revoked by Commerce. Therefore, we continue to treat China as an NME country for the purposes of these preliminary results.

¹¹ See Antidumping Duty Investigation of Certain Aluminum Foil from the People's Republic of China: Affirmative Preliminary Determination of Sales at Less Than Fair Value and Postponement of Final Determination, 82 FR 50858, 50861 (November 2, 2017), and accompanying Preliminary Decision Memorandum at 8, unchanged in Certain Aluminum Foil from the People's Republic of China: Final Determination of Sales at Less Than Fair Value, 83 FR 9282 (March 5, 2018).

ICF Cable and Jin Tiong are the companies subject to this review. In the Initiation Notice, Commerce explained:

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

* * * * *

All firms listed {in the Initiation Notice} that wish to qualify for separate rate status in the administrative reviews involving NME countries must complete, as appropriate, either a separate rate application or certification, as described below.” ¹²

¹² See Initiation Notice, 86 FR at 8167.

Commerce also stated that either a separate rate certification or a separate rate application, as appropriate, is due from each company no later than 30 days after publication of the Initiation Notice, noting that the deadline “applies equally to NME-owned firms, wholly foreign-owned firms, and foreign sellers who purchase and export subject merchandise to the United States.” ¹³ Thus, the deadline for the submission of a separate rate certification or separate rate application in this review was March 16, 2021.

¹³ Id.

The instructions for filing a separate rate application clearly state that each exporter is required to submit the necessary information needed to determine a company's eligibility for separate rate consideration:

Exporters, whether or not located in the NME country, owned wholly by entities located in market-economy countries, provided that the ultimate owners are also located in market-economy countries (“wholly market-economy owned firms”), need only fill out the certifications contained in this application and provide supporting documentation for the fields in the application that are marked with an asterisk, “*.” These marked fields pertain to the firm's eligibility for separate rates consideration and support the firm's claim that it is in fact wholly owned by a market-economy entity. This information is also necessary for administration once a separate rate has been issued.¹⁴

¹⁴ See “People's Republic of China (`China') Separate Rate Application and Required Supporting Documentation,” available at https://enforcement.trade.gov/nme/sep-rate-files/app-20190221/prc-sr-app-022119.pdf, at 3.

Therefore, there is no basis for Jin Tiong's claim that it was exempt from filing a separate rate application based on it being located in Singapore, a market-economy country. The separate rate application clearly instructs such a company to provide the necessary information to demonstrate that it is wholly foreign owned.

Further, in the Initiation Notice, Commerce explained that “{f}or exporters and producers who submit a Separate Rate Application or Certification and subsequently are selected as mandatory respondents, these exporters and producers will no longer be eligible for separate rate status unless they respond to all parts of the questionnaire as mandatory respondents.” ¹⁵ Commerce thus notified the respondents under review that it would select respondents for individual examination from those companies that had submitted a separate rate application or certification (as applicable). Commerce did not receive a separate rate application from either ICF Cable or Jin Tiong.¹⁶ Therefore, absent the submission of the required information necessary to establish whether any exporter is independent from the control of the government of the subject NME, i.e., China, Jin Tong was not eligible for individual examination in this administrative review. Commerce thus withdrew the antidumping questionnaire erroneously sent to Jin Tiong. Additionally, because neither Jin Tong nor ICF Cable attempted to demonstrate that they are entitled to a separate rate, the aforementioned presumption of government control is applicable, and Commerce preliminary determines that both companies subject to this review are part of the China-wide entity.¹⁷

¹⁵ Id.

¹⁶ For ICF Cable and Jin Tiong, neither company had previously received a company-specific rate in the investigation, and, therefore, a separate rate application was the appropriate information which was required in this review for each company to demonstrate their eligibility for a separate rate.

¹⁷ See Hydrofluorocarbon Blends from the People's Republic of China: Preliminary Results of the Antidumping Duty Administrative Review and Rescission of Antidumping Duty Administrative Review, in Part; 2019-2020, 86 FR 24587 (May 7, 2021).

In addition, Commerce no longer considers the NME-wide entity as an exporter conditionally subject to an antidumping duty administrative review.¹⁸ Accordingly, the NME-wide entity is not under review unless Commerce specifically receives a request for and initiates, or self-initiates, a review of the NME-wide entity. In this administrative review, no party requested a review of the China-wide entity. Moreover, we have not self-initiated a review of the China-wide entity. Because no review of the China-wide entity has been initiated, the China-wide entity's entries are not subject to the review, and the rate applicable to the China-wide entity is not subject to change as a result of this review. The existing weighted-average dumping margin, and, therefore, the applicable cash deposit rate and assessment rate for antidumping duties, is 52.79 percent, the rate established in the final determination of the less-than-fair-value investigation.¹⁹

¹⁸ See Antidumping Proceedings: Announcement of Change in Department Practice for Respondent Selection in Antidumping Duty Proceedings and Conditional Review of the Nonmarket Economy Entity in NME Antidumping Duty Proceedings, 78 FR 65963, 65970 (November 4, 2013).

¹⁹ See Order, 84 FR at 70497.

Disclosure and Public Comment

Normally, Commerce discloses the calculations used in its analysis to parties in a review within five days of the date of publication of the notice of preliminary results, in accordance with 19 CFR 351.224(b). However, for the preliminary results of review, there are no calculations on the record to disclose.

Interested parties may submit case briefs no later than 30 days after the date of publication of this notice.²⁰ Rebuttal briefs, limited to issues raised in the case briefs, may be filed no later than seven days after the time limit for filing case briefs.²¹ Parties who submit case or rebuttal briefs in this proceeding are encouraged to submit with each argument: (1) A statement of the issue; (2) a brief summary of the argument; and (3) a table of authorities.²²

²⁰ See 19 CFR 351.309(c).

²¹ See 19 CFR 351.309(d); see also Temporary Rule Modifying AD/CVD Service Requirements Due to COVID-19, 85 FR 17006, 17007 (March 26, 2020); and Temporary Rule Modifying AD/CVD Service Requirements Due to COVID-19; Extension of Effective Period, 85 FR 41363 (July 10, 2020) (Temporary Rule).

²² See 19 CFR 351.309(c)(2).

Pursuant to 19 CFR 351.310(c), interested parties who wish to request a hearing must submit a written request to the Assistant Secretary for Enforcement and Compliance, U.S. Department of Commerce, filed electronically via ACCESS within 30 days after the date of publication of this notice.²³ Hearing requests should contain: (1) The party's name, address, and telephone number; (2) the number of participants; and (3) a list of issues to be discussed. Issues raised in the hearing will be limited to issues raised in the briefs. If a request for a hearing is made, Commerce intends to hold the hearing at a date and time to be determined.²⁴ Parties should confirm by telephone the date and time of the hearing two days before the scheduled date.

²³ See 19 CFR 351.310(c).

²⁴ See 19 CFR 351.310(d).

All submissions should be filed using Enforcement and Compliance's Antidumping and Countervailing Duty Centralized Electronic Service System (ACCESS).²⁵ ACCESS is available to registered users at https://access.trade.gov. An electronically-filed document must be received successfully in its entirety by ACCESS by 5:00 p.m. Eastern Time on the established deadline.²⁶ Note that Commerce has temporarily modified certain of its requirements for serving documents containing business proprietary information, until further notice.²⁷

²⁵ See 19 CFR 351.303.

²⁶ See 19 CFR 351.303(b)(1).

²⁷ See Temporary Rule.

Final Results of Review

Unless otherwise extended, Commerce intends to issue the final results of this administrative review, which will include the results of its analysis of all issues raised in the case briefs, within 120 days of publication of these preliminary results, pursuant to section 751(a)(3)(A) of the Act.

Assessment Rates

Upon issuance of the final results of the administrative review, Commerce will determine, and CBP shall assess, antidumping duties on all appropriate entries covered by this review.²⁸ If Commerce continues to find in the final results that ICF Cable and Jin Tiong are both part of the China-wide entity, we intend to instruct CBP to liquidate entries of subject merchandise exported by ICF Cable and Jin Tiong at the rate applicable to the China-wide entity, 52.79 percent.

²⁸ See 19 CFR 351.212(b)(1).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of the subject merchandise from China entered, or withdrawn from warehouse, for consumption on or after the publication date, as provided by sections 751(a)(2)(C) of the Act: (1) For companies that have a separate rate, the cash deposit rate will be that established in the final results of this review (except, if the rate is zero or de minimis, then zero cash deposit will be required); (2) for previously investigated or reviewed Chinese or non-Chinese exporters not listed above that received a separate rate in a prior segment of this proceeding, the cash deposit rate will continue to be the existing exporter-specific rate; (3) for all exporters of subject merchandise that have not been found to be entitled to a separate rate, the cash deposit rate will be that for the China-wide entity (i.e., 52.79 percent); and (4) for all exporters of subject merchandise that are not located in China which have not received their own rate, the cash deposit rate will be the rate applicable to the exporter located in China that supplied the exporters not located in China.

These deposit requirements, when imposed, shall remain in effect until further notice.

Notification to Importers

This notice also serves as a reminder to importers of their responsibility under 19 CFR 351.402(f)(2) to file a certificate regarding the reimbursement of antidumping and countervailing duties prior to liquidation of the relevant entries during this review period. Failure to comply with this requirement could result in Commerce's presumption that reimbursement of antidumping and countervailing duties occurred and the subsequent assessment of double antidumping duties.

Notification to Interested Parties

We are issuing and publishing these results in accordance with sections 751(a)(1) and 777(i)(1) of the Act, and 19 CFR 351.221(b)(4).

Dated: August 27, 2021.
Christian Marsh,
Acting Assistant Secretary for Enforcement and Compliance.

Appendix

Scope of the Order

The scope of the Order covers aluminum wire and cable, which is defined as an assembly of one or more electrical conductors made from 8000 Series Aluminum Alloys (defined in accordance with ASTM B800), Aluminum Alloy 1350 (defined in accordance with ASTM B230/B230M or B609/B609M), and/or Aluminum Alloy 6201 (defined in accordance with ASTM B398/B398M), provided that: (1) At least one of the electrical conductors is insulated; (2) each insulated electrical conductor has a voltage rating greater than 80 volts and not exceeding 1000 volts; and (3) at least one electrical conductor is stranded and has a size not less than 16.5 thousand circular mil (kcmil) and not greater than 1000 kcmil. The assembly may: (1) Include a grounding or neutral conductor; (2) be clad with aluminum, steel, or other base metal; or (3) include a steel support center wire, one or more connectors, a tape shield, a jacket or other covering, and/or filler materials.

Most aluminum wire and cable products conform to National Electrical Code (NEC) types THHN, THWN, THWN-2, XHHW-2, USE, USE-2, RHH, RHW, or RHW-2, and also conform to Underwriters Laboratories (UL) standards UL-44, UL-83, UL-758, UL-854, UL-1063, UL-1277, UL-1569, UL-1581, or UL-4703, but such conformity is not required for the merchandise to be included within the scope.

The scope of the Order specifically excludes aluminum wire and cable products in lengths less than six feet, whether or not included in equipment already assembled at the time of importation.

The merchandise covered by the Order is currently classifiable under subheading 8544.49.9000 of the Harmonized Tariff Schedule of the United States (HTSUS). Products subject to the scope may also enter under HTSUS subheading 8544.42.9090. The HTSUS subheadings are provided for convenience and customs purposes. The written description of the scope is dispositive.

[FR Doc. 2021-18991 Filed 9-1-21; 8:45 am]

BILLING CODE 3510-DS-P